FEDERAL DEPOSIT INSURANCE CORPORATION

[OMB No. 3064-0092; and 0198]

Agency Information Collection Activities: Submission for OMB Review; Comment Request

AGENCY: Federal Deposit Insurance Corporation (FDIC).

ACTION: Agency Information Collection Activities: Submission for OMB Review; comment request.

SUMMARY: The FDIC, as part of its obligations under the Paperwork Reduction Act of 1995, invites the general public and other Federal agencies to take this opportunity to comment on the renewal of the existing information collections described below. The FDIC published notices in the Federal Register requesting comment for 60 days on a proposal to renew these information collections. No comments were received. The FDIC hereby gives notice of its plan to submit to OMB a request to approve the renewal of these information collections, and again invites comment on the renewal.

DATES: Comments must be submitted on or before October 26, 2020.

ADDRESSES: Interested parties are invited to submit written comments to the FDIC by any of the following methods:

• https://www.FDIC.gov/regulations/laws/federal.

• Email: comments@fdic.gov. Include the name and number of the collection in the subject line of the message.

• Mail: Manny Cabeza, Regulatory Counsel, MB-3128, Federal Deposit Insurance Corporation, 550 17th Street NW, Washington, DC 20429.

• Hand Delivery: Comments may be hand-delivered to the guard station at the rear of the 17th Street NW building (located on F Street), on business days between 7:00 a.m. and 5:00 p.m.

Written comments and recommendations for the proposed information collection should be sent within 30 days of publication of this notice to www.reginfo.gov/public/do/PRAMain. Find this particular information collection by selecting “Currently under 30-day Review—Open for Public Comments” or by using the search function.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal To Renew the Following Currently Approved Collections of Information

1. Title: Community Reinvestment Act.

OMB Number: 3064-0092.

Form Number: None.

Affected Public: Insured state nonmember banks and state savings associations.

Burden Estimate:

Summary of Annual Burden
Source and type of burden | Description | Estimated number of respondents | Average estimated time per response | Total estimated annual burden (hours)
345.25(b) Reporting | Request for designation as a wholesale or limited purpose bank—Banks requesting this designation shall file a request in writing with the FDIC at least 3 months prior to the proposed effective date of the designation | 1 | 4 | 4
345.27 Reporting | Strategic plan—Applies to banks electing to submit strategic plans to the FDIC for approval | 10 | 400 | 4,000
345.42(b)(1) Reporting | Small business/small farm loan data—Large banks shall and Small banks may report annually in machine readable form the aggregate number and amount of certain loans | 277 | 8 | 2,216
345.42(b)(2) Reporting | Community development loan data—Large banks shall and Small banks may report annually, in machine readable form, the aggregate number and aggregate amount of community development loans originated or purchased | 277 | 13 | 3,601
345.42(b)(3) Reporting | Home mortgage loans—Large banks, if subject to reporting under part 203 (Home Mortgage Disclosure (HMDA)), shall, and Small banks may report the location of each home mortgage loan application, origination, or purchase outside the MSA in which the bank has a home/branch office | 357 | 253 | 90,321
345.42(d) Reporting | Data on affiliate lending—Banks that elect to have the FDIC consider loans by an affiliate, for purposes of the lending or community development test or an approved strategic plan, shall collect, maintain and report the data that the bank would have collected, maintained, and reported pursuant to § 345.42(a), (b), and (c) had the loans been originated or purchased by the bank. For home mortgage loans, the bank shall also be prepared to identify the home mortgage loans reported under HMDA | 311 | 38 | 11,818
345.42(e) Reporting | Data on lending by a consortium or a third party—Banks that elect to have the FDIC consider community development loans by a consortium or a third party, for purposes of the lending or community development tests or an approved strategic plan, shall report for those loans the data that the bank would have reported under § 345.42(b)(2) had the loans been originated or purchased by the bank | 103 | 17 | 1,751
345.42(g) Reporting | Assessment area data—Large banks shall and Small banks may collect and report to the FDIC a list for each assessment area showing the geographies within the area | 380 | 2 | 760
Total Reporting |  |  |  | 114,471
345.42(a) Recordkeeping | Small business/small farm loan register—Large banks shall and Small banks may collect and maintain certain data in machine-readable form | 380 | 219 | 83,220
345.42(c) Recordkeeping | Optional consumer loan data—All banks may collect and maintain in machine readable form certain data for consumer loans originated or purchased by a bank for consideration under the lending test | 10 | 26 | 3,260
345.42(c)(2) Recordkeeping | Other loan data -All banks optionally may provide other information concerning their lending performance, including additional loan distribution data | 103 | 25 | 2,575
Total Recordkeeping |  |  |  | 89,055
345.41(a) 345.43(a); (a)(1); (a)(2); (a)(3); (a)(4); (a)(5); (a)(6); (a)(7); (b)(1); (b)(2); (b)(3); (b)(4); (b)(5); (c); (d) Disclosure | Content and availability of public file—All banks shall maintain a public file that contains certain required information | 3,309 | 10 | 33,090
Total Disclosure |  |  |  | 33,090
Total Estimated Annual Burden |  |  |  | 236,616

General Description of Collection: The Community Reinvestment Act regulation requires the FDIC to assess the record of banks and thrifts in helping meet the credit needs of their entire communities, including low- and moderate-income neighborhoods, consistent with safe and sound operations; and to take this record into account in evaluating applications for mergers, branches, and certain other corporate activities.

There is no change in the method or substance of the collection. The overall decrease in burden hours is a result of the decrease in the estimated number of respondents.

2. Title: Generic Information Collection for Qualitative Research.

OMB Number: 3064-0198.

Affected Public: General public including FDIC insured depository institutions.

Burden Estimate:

Summary of Annual Burden
Information collection description | Type of burden | Obligation to respond | Estimated number of respondents | Estimated frequency of responses | Estimated time per response (minutes) | Estimated annual burden (hours)
Occasional Qualitative Surveys | Reporting | Voluntary | 500 | 20 | 60 | 10,000

Total Estimated Annual Burden: 10,000 hours.

General Description of Collection: The FDIC is requesting renewal of this approved collection to use occasional qualitative surveys to gather information from the public to inform qualitative research. While the subject and nature of the surveys to be deployed under this information collection are yet to be determined, based on prior experience it is expected that the number or respondents will range from a few to, at times, several thousands, but, in general, these surveys are expected to involve an average of 500 respondents. Likewise, the time to respond to the surveys can range from a few minutes to several hours, but, it is expected that the average time to respond to a survey is approximately one hour. These surveys are completely voluntary in nature. FDIC estimates that approximately 20 such surveys will be conducted in any given year.

Currently, the FDIC has a variety of methods to collect quantitative information from consumers and institutions (e.g., Call Reports, FDIC National Survey of Unbanked and Underbanked Households, etc.). Qualitative data would provide complementary information on insights, opinions, and perceptions that will inform how the FDIC approaches its mission to safeguard financial stability of the banking system and promote consumer protection and economic inclusion. This clearance would allow the FDIC to engage with consumers and other relevant stakeholders through qualitative research methods such as focus groups, in-depth interviews, cognitive testing, and/or qualitative virtual methods.

The purpose of the surveys is, in general terms, to obtain anecdotal information about regulatory burden, problems or successes in the bank supervisory process (including both safety-and-soundness and consumer-related exams), the perceived need for regulatory or statutory change, and similar concerns. The information in these surveys is anecdotal in nature, that is, samples are not necessarily random, the results are not necessarily representative of a larger class of potential respondents, and the goal is not to produce a statistically valid and reliable database. Rather, the surveys are expected to yield anecdotal information about the particular experiences and opinions of members of the public, primarily staff at respondent banks or bank customers. The collection is non-controversial and does not raise issues of concern to other Federal agencies; with the exception of information needed to provide remuneration for participants of focus groups and cognitive laboratory studies, personally identifiable information (PII) is collected only to the extent necessary and is not retained.

Participation in this information collection will be voluntary and conducted in-person, by phone, or using other methods, such as virtual technology. The types of collections that this generic clearance covers include, but are not limited to: small discussion groups; focus groups of consumers, financial industry professionals, or other stakeholders; cognitive laboratory studies, such as those used to refine questions or assess usability of a website; qualitative customer satisfaction surveys (e.g., post-transaction surveys; opt-out web surveys); and in-person observation testing (e.g., website or software usability tests).

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on September 21, 2020.
James P. Sheesley,
Assistant Executive Secretary.

[FR Doc. 2020-21136 Filed 9-24-20; 8:45 am]

BILLING CODE 6714-01-P